DEPARTMENT OF ENERGY

Environmental Management Site-Specific Advisory Board, Nevada

AGENCY: Department of Energy.

ACTION: Notice of open meeting.

SUMMARY: This notice announces a meeting of the Environmental Management Site-Specific Advisory Board (EM SSAB), Nevada Test Site. The Federal Advisory Committee Act (Pub. L. No. 92-463, 86 Stat. 770) requires that public notice of this meeting be announced in the Federal Register.

DATES: Wednesday, February 8, 2006, from 7 p.m.-9 p.m.

ADDRESSES: Bob Ruud Community Center, 150 North Highway 160, Pahrump, Nevada.

FOR FURTHER INFORMATION CONTACT: Kay Planamento, Navarro Research and Engineering, Inc., 2721 Losee Road, Suite D, North Las Vegas, Nevada 89030, phone: 702-657-9088, fax: 702-649-3384, e-mail: NTSCAB@aol.com.

SUPPLEMENTARY INFORMATION: Purpose of the Board: The purpose of the Board is to make recommendations to DOE in the areas of environmental restoration, waste management, and related activities.

Tentative Agenda:

• Update on radioactive waste management accomplishments at the Nevada Test Site

• 2006 Work Plans

• Recruitment campaign activities

Note: From 6:30 p.m.-7 p.m., the Chairperson of the Citizens' Advisory Board (CAB) will provide a briefing entitled “CAB Roadshow,” designed to familiarize stakeholders with the overall scope and mission of the Board.

Public Participation: The meeting is open to the public. Written statements may be filed with the Board either before or after the meeting. Individuals who wish to make oral presentations pertaining to agenda items should contact Kelly Snyder at the telephone number listed above. The request must be received five days prior to the meeting and reasonable provision will be made to include the presentation in the agenda. The Deputy Designated Federal Officer is empowered to conduct the meeting in a fashion that will facilitate the orderly conduct of business. Individuals wishing to make public comment will be provided a maximum of five minutes to present their comments.

Minutes: The minutes of this meeting will be available for public review and copying at the U.S. Department of Energy's Freedom of Information Public Reading Room, 1E-190, Forrestal Building, 1000 Independence Avenue, SW., Washington, DC 20585 between 9 a.m. and 4 p.m., Monday through Friday, except Federal holidays. Minutes will also be available by writing to Kay Planamento at the address listed above.

Issued at Washington, DC on January 20, 2006.
Rachel Samuel,
Deputy Advisory Committee Management Officer.

[FR Doc. E6-935 Filed 1-24-06; 8:45 am]

BILLING CODE 6450-01-P